DEPARTMENT OF COMMERCE

International Trade Administration

[A-570-803]

Heavy Forged Hand Tools, Finished or Unfinished, With or Without Handles, From the People's Republic of China: Notice of Extension of Time Limit for the Final Results of Antidumping Duty Administrative Review

AGENCY: Import Administration, International Trade Administration, Department of Commerce.

DATES: Effective Date: July 10, 2008.

FOR FURTHER INFORMATION CONTACT: Javier Barrientos, AD/CVD Operations, Office 9, Import Administration, International Trade Administration, U.S. Department of Commerce, 14th Street and Constitution Avenue, NW., Washington, DC 20230; telephone (202) 482-2243.

Background

On March 5, 2008, the Department of Commerce (“the Department”) published a notice for the preliminary results of the administrative review of the antidumping duty order on heavy forged hand tools from the People's Republic of China, covering the period February 1, 2006, through January 31, 2007. See Heavy Forged Hand Tools, Finished or Unfinished, With or Without Handles, From the People's Republic of China: Preliminary Rescission of Antidumping Duty Administrative Review, 73 FR 11867 (March 5, 2008). The final results for this administrative review are currently due no later than July 3, 2008.

Extension of Time Limit for the Final Results

Section 751(a)(3)(A) of the Tariff Act of 1930, as amended (“the Act”), requires the Department issue the final results of an administrative review within 120 days after the date on which the preliminary results are published. If it is not practicable to complete the review within that time period, section 751(a)(3)(A) of the Act allows the Department to extend the deadline for the final results to a maximum of 180 days after the date on which the preliminary results are published.

The Department requires additional time to properly consider the issues raised in case briefs from interested parties such as the proper labeling of certain products as noted in the verification findings of the third-country reseller.

Thus, it is not practicable to complete these reviews within the original time limit. Therefore, the Department is extending the time limit for completion of the final results of this review by 60 days, in accordance with section 751(a)(3)(A) of the Act. The final results are now due no later than September 2, 2008.¹ We are issuing and publishing this notice in accordance with sections 751(a)(1) and 777(i)(1) of the Act.

¹ Sixty days from July 3, 2008, is September 1, 2008. However, Department practice dictates that where a deadline falls on a federal holiday, the appropriate deadline is the next business day. See Notice of Clarification: Application of “Next Business Day” Rule for Administrative Determination Deadlines Pursuant to the Act, 70 FR 24533 (May 10, 2005).

Dated: July 2, 2008.
Gary S. Taverman,
Acting Deputy Assistant Secretary for Import Administration.

[FR Doc. E8-15731 Filed 7-9-08; 8:45 am]

BILLING CODE 3510-DS-P